DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g., to provide for additional hazardous materials, packaging design changes, additional mode of transportation, etc.) are described in footnotes to the application number. Application numbers with the suffix “M” denote a modification request. These applications have been separated from the new application for special permits to facilitate processing.

DATES: Comments must be received on or before April 28, 2009.

Address Comments to: Record Center, Pipeline and Hazardous Materials Safety Administration, U.S. Department of Transportation, Washington, DC 20590.

Comments should refer to the application number and be submitted in triplicate. If confirmation of receipt of comments is desired, include a self-addressed stamped postcard showing the special permit number.

For Further Information: Copies of the applications are available for inspection in the Records Center, East Building, PHH-30, 1200 New Jersey Avenue, Southeast, Washington DC, or at http://fdms.gov.

This notice of receipt of applications for modification of special permit is published in accordance with Part 107 of the Federal hazardous materials transportation law (49 U.S.C. 5117(b); 49 CFR 1.53(b)).

Issued in Washington, DC, on April 3, 2009.
Delmer F. Billings,
Director, Office of Hazardous Materials, Special Permits and Approvals.

Modification Special Permits
Application No. | Docket No. | Applicant | Regulation(s) affected | Nature of special permit thereof
8162-M |  | Structural Composites Industries, LLC Pomona, CA | 49 CFR 173.302(a)(1); 173.304(a)(1); 175.3 | To modify the special permit to remove one type of material for use in manufacturing cylinders.
11470-M |  | The Procter & Gamble Company West Chester, OH | 49 CFR 172.301(a)(2) | To modify the special permit to add cargo vessel as an additional mode of transportation.
13292-M |  | Seaquist Perfect Dispensing Cary, IL | 49 CFR 173.306(h) | To modify the special permit to authorize an increase in volume and to increase the lot size.
14453-M |  | FIBA Technologies, Inc. Millbury, MA | 49 CFR 180.209 | To modify the special permit to authorize an additional Division 2.1 hazardous material and to increase maximum acceptance flaw size used on UE requalification.
14728-M |  | International Isotopes Inc. Idaho Falls, ID | 49 CFR 173.416(c) | To modify the special permit to authorize an increase in the number of times the packaging can be used and extending the expiration date.
14790-M |  | Cargill, Incorporated and its affiliated companies Minneapolis, MN | 49 CFR 49 CFR Parts 171-180 | To modify the special permit to and its authorize ID affiliated number markings instead of placards and change from emergency to permanent.

[FR Doc. E9-8222 Filed 4-10-09; 8:45 am]

BILLING CODE 4909-60-M